DEPARTMENT OF STATE

[Public Notice: 10174]

Bureau of Consular Affairs; Registration for the Diversity Immigrant (DV-2019) Visa Program

AGENCY: Department of State.

ACTION: Notice.

This public notice provides information on changes to the application process for the DV-2019 Program due to unforeseen technical issues.

Changes to the Entry Period

The registration period for the DV-2019 DV program began at noon, Eastern Daylight Time (EDT) (GMT-4), Tuesday, October 3, 2017. Due to unforeseen technical issues with the application systems, the Department did not receive all required information from entries submitted between Tuesday, October 3, 2017 and Tuesday, October 10, 2017, when the problem was identified and the Department ceased accepting entries. The technical issue has since been resolved, but the missing information was not recovered.

In order to ensure that applications are not unfairly affected by this technical issue, a new registration period will begin at noon, Eastern Daylight Time (EDT) (GMT-4), Wednesday, October 18, 2017 and run until noon, Eastern Standard Time (EDT) (GMT-5), Wednesday, November 22, 2017. Entries previously submitted between Tuesday, October 3, 2017, and Tuesday, October 10, 2017, will not be considered for the DV program. Individuals who submitted entries during that period are encouraged to submit a new entry during the new registration period. Do not wait until the last week of the registration period to enter, as heavy demand may result in Web site delays. No late entries or paper entries will be accepted. The law allows only one entry by or for each person during each registration period. The Department of State uses sophisticated technology to detect multiple entries. Individuals with more than one entry during this registration period will be disqualified. However, applicants who registered during the initial registration period of October 3, 2017 to October 10, 2017, are encouraged to register in the new registration period, and will not be disqualified based on registering in both periods.

In order to participate in DV-2019, individuals must submit an entry during this period; entries submitted between Tuesday, October 3 and Tuesday, October 9 will not be counted. Individuals who submitted entries between Tuesday, October 3 and Tuesday, October 10 must reapply during the new registration period in order to participate in DV-2019.

All other requirements for entry into DV-2019, and all of the following information in this notice, remain the same with the exception of Frequently Asked Questions #9, 10, and 16 below, which have been updated to reflect the new registration period.

Program Overview

The Department of State administers the Congressionally-mandated Diversity Immigrant Visa Program annually. Section 203(c) of the Immigration and Nationality Act (INA) provides for a class of immigrants known as “diversity immigrants,” from countries with historically low rates of immigration to the United States. For fiscal year 2019, 50,000 diversity visas (DVs) will be available. There is no cost to register for the DV Program.

Applicants who are selected in the lottery (“selectees”) must meet simple, but strict, eligibility requirements to qualify for a diversity visa. The Department of State determines selectees through a randomized computer drawing. Diversity visa numbers are distributed among six geographic regions, and no single country may receive more than seven percent of the available DVs in any one year.

For DV-2019, natives of the following countries are not eligible to apply, because more than 50,000 natives of these countries immigrated to the United States in the previous five years:

Bangladesh, Brazil, Canada, China (mainland-born), Colombia, Dominican Republic, El Salvador, Haiti, India, Jamaica, Mexico, Nigeria, Pakistan, Peru, Philippines, South Korea, United Kingdom (except Northern Ireland) and its dependent territories, and Vietnam.

Persons born in Hong Kong SAR, Macau SAR, and Taiwan are eligible.

There are no changes in eligibility this year.

Eligibility

Requirement #1: Individuals born in countries whose natives qualify may be eligible to enter.

If you were not born in an eligible country, there are two other ways you might be able to qualify.

• Was your spouse born in a country whose natives are eligible? If yes, you can claim your spouse's country of birth—provided that both you and your spouse are named on the selected entry, are found eligible for and issued diversity visas, and enter the United States simultaneously.

• Were you born in a country whose natives are ineligible, but in which neither of your parents were born or legally resident at the time of your birth? If yes, you may claim the country of birth of one of your parents if it is a country whose natives are eligible for the DV-2019 program. For more details on what this means, see the Frequently Asked Questions.

Requirement #2: Each applicant must meet the education/work experience requirement of the DV program by having either:

• At least a high school education or its equivalent, defined as successful completion of a 12-year course of formal elementary and secondary education; OR

• two years of work experience within the past five years in an occupation that requires at least two years of training or experience to perform. The Department of State will use the U.S. Department of Labor's O*Net Online database to determine qualifying work experience. For more information about qualifying work experience for the principal DV applicant, see the Frequently Asked Questions.

Do not submit an entry to the DV program unless you meet both of these requirements.

Completing Your Electronic Entry for the DV-2019 Program

Submit your Electronic Diversity Visa Entry Form (E-DV Entry Form or DS-5501), online at dvlottery.state.gov. We will not accept incomplete entries. There is no cost to register for the DV Program.

We strongly encourage you to complete the entry form yourself, without a “visa consultant,” “visa agent,” or other facilitator who offers to help. If someone else helps you, you should be present when your entry is prepared so that you can provide the correct answers to the questions and retain the confirmation page and your unique confirmation number.

After you submit a complete entry, you will see a confirmation screen that contains your name and a unique confirmation number. Print this confirmation screen for your records. It is extremely important that you retain your confirmation page and unique confirmation number. Without this information, you will not be able to access the online system that will inform you of the status of your entry. You also should retain access to the email account listed in the E-DV. See the Frequently Asked Questions for more information about Diversity Visa scams.

Starting May 15, 2018, you will be able to check the status of your entry by returning to dvlottery.state.gov, clicking on Entrant Status Check, and entering your unique confirmation number and personal information. Entrant Status Check will be the sole means of informing you of your selection for DV-2019, providing instructions on how to proceed with your application, and notifying you of your appointment for your immigrant visa interview. Please review the Frequently Asked Questions for more information about the selection process.

You must provide the following information to complete your E-DV entry:

1. Name—last/family name, first name, middle name—exactly as on your passport.

2. Gender—male or female.

3. Birth date—day, month, year.

4. City where you were born.

5. Country where you were born—Use the name of the country currently used for the place where you were born.

6. Country of eligibility for the DV Program—Your country of eligibility will normally be the same as your country of birth. Your country of eligibility is not related to where you live.

If you were born in a country that is not eligible, please review the Frequently Asked Questions to see if there is another way you may be eligible.

7. Entrant photograph(s)—Recent photographs (taken within 6 months) of yourself, your spouse, and all your children listed on your entry. See Submitting a Digital Photograph for compositional and technical specifications. You do not need to include a photograph for a spouse or child who is already a U.S. citizen or a Lawful Permanent Resident, but you will not be penalized if you do. We cannot accept group photographs; you must submit a photograph for each individual. Your entry may be disqualified or your visa refused if the photographs are more than six months old, have been manipulated in any way, or do not meet the specifications explained below. Submitting the same photograph that you submitted with a prior year's entry) will result in disqualification. See Submitting a Digital Photograph for more information.

8. Mailing Address—In Care Of

Address Line 1

Address Line 2

City/Town

District/Country/Province/State

Postal Code/Zip Code

Country

9. Country where you live today.

10. Phone number (optional).

11. Email address—An email address to which you have direct access, and will continue to have direct access after we notify selectees in May of next year. If your entry is selected and you respond to the notification of your selection through the Entrant Status Check, you will receive follow-up email communication from the Department of State notifying you that details of your immigrant visa interview are available on Entrant Status Check. The Department of State will never send you an email telling you that you have been selected for the DV program. See the Frequently Asked Questions for more information about the selection process.

12. Highest level of education you have achieved, as of today: (1) Primary school only, (2) Some high school, no diploma, (3) High school diploma, (4) Vocational school, (5) Some university courses, (6) University degree, (7) Some graduate-level courses, (8) Master's degree, (9) Some doctoral-level courses, and (10) Doctorate. See the Frequently Asked Questions for more information about educational requirements.

13. Current marital status—(1) Unmarried, (2) married and my spouse is NOT a U.S. citizen or U.S. LPR, (3) married and my spouse IS a U.S. citizen or U.S. LPR, (4) divorced, (5) widowed, or (6) legally separated. Enter the name, date of birth, gender, city/town of birth, country of birth of your spouse, and a photograph of your spouse meeting the same technical specifications as your photo.

Failure to list your eligible spouse will result in disqualification of the principal applicant and refusal of all visas in the case at the time of the visa interview. You must list your spouse even if you currently are separated from him/her, unless you are legally separated. Legal separation is an arrangement when a couple remain married but live apart, following a court order. If you and your spouse are legally separated, your spouse will not be able to immigrate with you through the Diversity Visa program. You will not be penalized if you choose to enter the name of a spouse from whom you are legally separated. If you are not legally separated by a court order, you must include your spouse even if you plan to be divorced before you apply for the Diversity Visa. Failure to list your eligible spouse is grounds for disqualification.

If your spouse is a U.S. citizen or Lawful Permanent Resident, do not list him/her in your entry. A spouse who is already a U.S. citizen or a Lawful Permanent Resident will not require or be issued a DV visa. Therefore, if you select “married and my spouse IS a U.S. citizen or U.S. LPR” on your entry, you will not be prompted to include further information on your spouse. See the Frequently Asked Questions for more information about family members.

14. Number of children—List the name, date of birth, gender, city/town of birth, and country of birth for all living unmarried children under 21 years of age, regardless of whether or not they are living with you or intend to accompany or follow to join you should you immigrate to the United States. Submit individual photographs of each of your children using the same technical specifications as your own photograph.

Be sure to include:

• All living natural children;

• all living children legally adopted by you; and,

• all living step-children who are unmarried and under the age of 21 on the date of your electronic entry, even if you are no longer legally married to the child's parent, and even if the child does not currently reside with you and/or will not immigrate with you.

Married children and children over the age of 21 are not eligible for the DV. However, the Child Status Protection Act protects children from “aging out” in certain circumstances. If you submit your DV entry before your unmarried child turns 21, and the child turns 21 before visa issuance, it is possible that he or she may be treated as though he or she were under 21 for visa-processing purposes.

A child who is already a U.S. citizen or a Lawful Permanent Resident will not require or be issued a diversity visa, and you will not be penalized for either including or omitting such family members from your entry.

Failure to list all children who are eligible will result in disqualification of the principal applicant and refusal of all visas in the case at the time of the visa interview. See the Frequently Asked Questions for more information about family members.

See the Frequently Asked Questions for more information about completing your Electronic Entry for the DV-2019 Program.

Selection of Applicants

Based on the allocations of available visas in each region and country, the Department of State will randomly select individuals by computer from among qualified entries. All DV-2019 entrants must go to the Entrant Status Check using the unique confirmation number saved from their DV-2019 online entry registration to find out whether their entry has been selected in the DV program. Entrant Status Check will be available on the E-DV Web site at dvlottery.state.gov starting May 15, 2018, through at least September 30, 2019.

If your entry is selected, you will be directed to a confirmation page that will provide further instructions, including information on fees connected with immigration to the United States. Entrant Status Check will be the ONLY means by which the Department of State notifies selectees of their selection for DV-2019. The Department of State will not mail out notification letters or notify selectees by email. U.S. embassies and consulates will not provide a list of selectees. Individuals who have not been selected also will be notified ONLY through Entrant Status Check. You are strongly encouraged to access Entrant Status Check yourself and not to rely on someone else to check and inform you.

In order to immigrate, DV selectees must be admissible to the United States. The DS-260, Online Immigrant Visa and Alien Registration Application, electronically, and the consular officer, in person will ask you questions about your eligibility to immigrate, and these questions include criminal and security related grounds.

All eligible selectees, including family members, must be issued by September 30, 2019. Under no circumstances can the Department of State issue DVs or approve adjustments after this date, nor can family members obtain DVs to follow-to-join the principal applicant in the United States after this date. See the Frequently Asked Questions for more information about the selection process.

Submitting a Digital Photograph (Image)

You can take a new digital photograph or scan a recent photographic print, taken within the last 6 months, with a digital scanner, as long as it meets the compositional and technical specifications listed below. Test your photos through the photo validation link on the E-DV Web site, which provides additional technical advice on photo composition and examples of acceptable and unacceptable photos. Do not submit an old photograph. Submitting the same photograph that was submitted with a prior year's entry, a photograph that has been manipulated, or a photograph that does not meet the specifications below will result in disqualification.

Photographs must be in 24-bit color depth. If you are using a scanner, the settings must be for True Color or 24-bit color mode. See the additional scanning requirements below.

Compositional Specifications

• Head Position: You must directly face the camera. The subject's head should not be tilted up, down, or to the side. The head height or facial region size (measured from the top of the head, including the hair, to the bottom of the chin) must be between 50 percent and 69 percent of the image's total height. The eye height (measured from the bottom of the image to the level of the eyes) should be between 56 percent and 69 percent of the image's height.

• Light-colored Background: The subject should be in front of a neutral, light-colored background.

• Focus: The photograph must be in focus.

• No Eyewear: The subject must not wear glasses or other items that detract from the face.

• No Head Coverings or Hats: Head coverings or hats worn for religious beliefs are acceptable, but the head covering may not obscure any portion of the face. Tribal or other headgear not religious in nature may not be worn. Photographs of military, airline, or other personnel wearing hats will not be accepted.

Technical Specifications

• Taking a New Digital Image. If you submit a new digital image, it must meet the following specifications:

○ Image File Format: The image must be in the Joint Photographic Experts Group (JPEG) format.

○ Image File Size: The maximum image file size is 240 kilobytes (240KB).

○ Image Resolution and Dimensions: Minimum acceptable dimensions are 600 pixels (width) x 600 pixels (height) up to 1200 pixels x 1200 pixels. Image pixel dimensions must be in a square aspect ratio (meaning the height must be equal to the width).

○ Image Color Depth: Image must be in color (24 bits per pixel). 24-bit black and white or 8-bit images will not be accepted.

• Scanning a Submitted Photograph. Before you scan a photographic print, make sure it meets the color and compositional specifications listed above. Scan the print using the following scanner specifications:

○ Scanner Resolution: Scanned at a resolution of at least 300 dots per inch (dpi).

○ Image File Format: The image must be in the Joint Photographic Experts Group (JPEG) format.

○ Image File Size: The maximum image file size is 240 kilobytes (240 KB).

○ Image Color Depth: 24-bit color. [Note that black and white, monochrome, or grayscale images will not be accepted.]

Frequently Asked Questions (FAQ's)

Eligibility

1. What do the terms “Native” and “Chargeability” mean?

“Native” ordinarily means someone born in a particular country, regardless of the individual's current country of residence or nationality. “Native” can also mean someone who is entitled to be “charged” to a country other than the one in which he/she was born under the provisions of Section 202(b) of the Immigration and Nationality Act.

Because there is a numerical limitation on immigrants who enter from a country or geographic region, each individual is “charged” to a country. Your chargeability” refers to the country towards which limitation you count. Your country of eligibility will normally be the same as your country of birth. However, you may choose your country of eligibility as the country of birth of your spouse, or the country of birth of either of your parents if you were born in a country in which neither parent was born and in which the parents were not resident at the time of your birth. These are the only three ways to select your country of chargeability.

If you claim alternate chargeability through either of the above, you must provide an explanation on the E-DV Entry Form, in question #6. Listing an incorrect country of eligibility or chargeability (i.e., one to which you cannot establish a valid claim) will disqualify your entry.

2. Can I still apply if I was not born in a qualifying country?

There are two circumstances in which you still might be eligible to apply. First, if your derivative spouse was born in an eligible country, you may claim chargeability to that country. As your eligibility is based on your spouse, you will only be issued a DV-1 immigrant visa if your spouse is also eligible for and issued a DV-2 visa. Both of you must enter the United States together using your DVs. Similarly, your minor dependent child can be “charged” to a parent's country of birth.

Second, you can be “charged” to the country of birth of either of your parents as long as neither of your parents was born in or a resident of your country of birth at the time of your birth. People are not generally considered residents of a country in which they were not born or legally naturalized, if they were only visiting, studying in the country temporarily, or stationed temporarily for business or professional reasons on behalf of a company or government from a different country other than the one in which you were born.

If you claim alternate chargeability through either of the above, you must provide an explanation on the E-DV Entry Form, in question #6. Listing an incorrect country of eligibility or chargeability (i.e., one to which you cannot establish a valid claim) will disqualify your entry.

3. Why do natives of certain countries not qualify for the DV program?

DVs are intended to provide an immigration opportunity for persons who are not from “high admission” countries. The law defines “high admission countries” as those from which a total of 50,000 persons in the Family-Sponsored and Employment-Based visa categories immigrated to the United States during the previous five years. Each year, U.S. Citizenship and Immigration Services (USCIS) counts the family and employment immigrant admission and adjustment of status numbers for the previous five years to identify the countries that are considered “high admission” and whose natives will therefore be ineligible for the annual diversity visa program. Because USCIS makes this calculation annually, the list of countries whose natives are eligible or not eligible may change from one year to the next.

4. How many DV-2019 visas will go to natives of each region and eligible country?

United States Citizenship and Immigration Services (USCIS) determines the regional DV limits for each year according to a formula specified in Section 203(c) of the Immigration and Nationality Act (INA). The number of visas the Department of State eventually will issue to natives of each country will depend on the regional limits established, how many entrants come from each country, and how many of the selected entrants are found eligible for the visa. No more than seven percent of the total visas available can go to natives of any one country.

5. What are the requirements for education or work experience?

U.S. immigration law and regulations require that every DV entrant must have at least a high school education or its equivalent or have two years of work experience within the past five years in an occupation that requires at least two years of training or experience. A “high school education or equivalent” is defined as successful completion of a 12-year course of elementary and secondary education in the United States OR the successful completion in another country of a formal course of elementary and secondary education comparable to a high school education in the United States. Only formal courses of study meet this requirement; correspondence programs or equivalency certificates (such as the General Equivalency Diploma G.E.D.) are not acceptable. You must present documentary proof of education or work experience to the consular officer at the time of the visa interview.

If you do not meet the requirements for education or work experience, your entry will be disqualified at the time of your visa interview, and no visas will be issued to you or any of your family members.

6. What occupations qualify for the DV program?

The U.S. Department of Labor's (DOL) O*Net OnLine database will be used to determine qualifying work experience. The O*Net Online Database groups job experience into five “job zones.” While the DOL Web site lists many occupations, not all occupations qualify for the DV Program. To qualify for a DV on the basis of your work experience, you must have, within the past five years, two years of experience in an occupation that is classified in a Specific Vocational Preparation (SVP) range of 7.0 or higher.

If you do not meet the requirements for education or work experience, your entry will be disqualified at the time of your visa interview, and no visas will be issued to you or any of your family members.

7. How can I find the qualifying DV occupations in the Department of Labor's O*Net online database?

When you are in O*Net OnLine, follow these steps to find out if your occupation qualifies:

1. Under “Find Occupations” select “Job Family” from the pull down;

2. Browse by “Job Family,” make your selection, and click “GO;”

3. Click on the link for your specific occupation.

4. Select the tab “Job Zone” to find the designated Job Zone number and Specific Vocational Preparation (SVP) rating range.

As an example, select Aerospace Engineers. At the bottom of the Summary Report for Aerospace Engineers, under the Job Zone section, you will find the designated Job Zone 4, SVP Range, 7.0 to < 8.0. Using this example, Aerospace Engineering is a qualifying occupation.

For additional information, see the Diversity Visa—List of Occupations Web page (travel.state.gov/visa/immigrants/types/types_1319.html).

8. Is there a minimum age to apply for the DV program?

There is no minimum age to apply, but the requirement of a high school education or work experience for each principal applicant at the time of application will effectively disqualify most persons who are under age 18.

Completing Your Electronic Entry for the DV Program

9. When can I submit my entry?

The DV-2019 entry period will run from 12:00 p.m. (noon), Eastern Daylight Time (EDT) (GMT-4), Wednesday, October 18, 2017, until 12:00 p.m. (noon), Eastern Standard Time (EST) (GMT-5), Wednesday, November 22, 2017. In order to participate in DV-2019, individuals must submit an entry during this period; entries submitted between Tuesday, October 3 and Tuesday, October 10 will not be counted. Individuals who submitted entries between Tuesday, October 3 and Tuesday, October 10 must reapply during the new registration period in order to participate in DV-2019.

Each year, millions of people submit entries. Holding the entry period on these dates ensures selectees receive notification in a timely manner and gives both the visa applicants and our embassies and consulates time to prepare and complete cases for visa issuance. We strongly encourage you to enter early during the registration period. Excessive demand at the end of the registration period may slow the system down. We cannot accept entries after noon EST Wednesday, November 22, 2017.

10. I am in the United States. Can I enter the DV program?

Yes, an entrant may apply while in the United States or another country. An entrant may submit an entry from any location.

11. Can I only enter once during the registration period?

Yes, the law allows only one entry by or for each person during each registration period. The Department of State uses sophisticated technology to detect multiple entries. Individuals with more than one entry during this registration period will be disqualified.

In order to participate in DV-2019, individuals must submit an entry during this period; entries submitted between Tuesday, October 3 and Tuesday, October 10, will not be counted. Individuals who submitted entries between Tuesday, October 3 and Tuesday, October 10 must reapply during the new registration period in order to participate in DV-2019.

12. May my spouse and I each submit a separate entry?

Yes, a husband and a wife may each submit one entry if each meets the eligibility requirements. If either spouse is selected, the other is entitled to apply as a derivative dependent.

13. What family members must I include in my DV entry?

Spouse: If you are legally married, you must list your spouse (husband or wife) regardless of whether or not he or she lives with you or intends to immigrate to the United States. You must list your spouse even if you are currently separated from him/her, unless you are legally separated. Legal separation is an arrangement when a couple remain married but live apart, following a court order. If you and your spouse are legally separated, your spouse will not be able to immigrate with you through the Diversity Visa program. You will not be penalized if you choose to enter the name of a spouse from whom you are legally separated. If you are not legally separated by a court order, you must include your spouse even if you plan to be divorced before you apply for the Diversity Visa. Failure to list your eligible spouse is grounds for disqualification.

If you are divorced or your spouse is deceased, you do not have to list your former spouse.

The only exception to this requirement is if your spouse is already a U.S. citizen or U.S. Lawful Permanent Resident. A spouse who is already a U.S. citizen or a Lawful Permanent Resident will not require or be issued a DV. Therefore, if you select “married and my spouse IS a U.S. citizen or U.S. LPR” on your entry, you will not be able to include further information on your spouse.

Children: You must list ALL your living children who are unmarried and under 21 years of age at the time of your initial E-DV entry, whether they are your natural children, your stepchildren (even if you are now divorced from that child's parent), your spouse's children, or children you have formally adopted in accordance with the applicable laws. List all children under 21 years of age at the time of your electronic entry, even if they no longer reside with you or you do not intend for them to immigrate under the DV program. You are not required to list children who are already U.S. citizens or Lawful Permanent Residents, though you will not be penalized if you do include them.

Parents and siblings of the entrant are ineligible to receive DV visas as dependents, and you should not include them in your entry.

If you list family members on your entry, they are not required to apply for a visa or to immigrate or travel with you. However, if you fail to include an eligible dependent on your original entry, your case will be disqualified at the time of your visa interview and no visas will be issued to you or any of your family members. This only applies to those who were family members at the time the original application was submitted, not those acquired at a later date. Your spouse, if eligible to enter, may still submit a separate entry even though he or she is listed on your entry, as long as both entries include details on all dependents in your family (see FAQ #12 above).

14. Must I submit my own entry, or can someone else do it for me?

We encourage you to prepare and submit your own entry, but you may have someone submit the entry for you. Regardless of whether you submit your own entry, or an attorney, friend, relative, or someone else submits it on your behalf, only one entry may be submitted in your name. You, as the entrant, are responsible for ensuring that information in the entry is correct and complete; entries that are not correct or complete may be disqualified. Entrants should keep their own confirmation number so that they are able to independently check the status of their entry using Entrant Status Check at dvlottery.state.gov. Entrants should keep retain access to the email account used in the E-DV submission.

15. I'm already registered for an immigrant visa in another category. Can I still apply for the DV program?

Yes. Your DV registration will not make you ineligible for another immigrant visa classification.

16. When will E-DV be available online?

You can enter online during the registration period beginning at 12:00 p.m. (noon) Eastern Daylight Time (EDT) (GMT-4) on Wednesday, October 18, 2017, and ending at 12:00 p.m. (noon) Eastern Standard Time (EST) (GMT-5) on Wednesday, November 22, 2017. While E-DV was available between Tuesday, October 3 and Tuesday, October 10, entries submitted during that period will not be counted due to unforeseen technical issues. Individuals must reapply during the new registration period in order to participate in DV-2019.

17. Can I download and save the E-DV entry form into a word processing program and finish it later?

No, you will not be able to save the form into another program for completion and submission later. The E-DV Entry Form is a Web form only. You must fill in the information and submit it while online.

18. Can I save the form online and finish it later?

No. The E-DV Entry Form is designed to be completed and submitted at one time. You will have 60 minutes starting from when you download the form to complete and submit your entry through the E-DV Web site. If you exceed the 60-minute limit and have not submitted your complete entry electronically, the system discards any information already entered. The system deletes any partial entries so that they are not accidentally identified as duplicates of a later, complete entry. Read the DV instructions completely before you start to complete the form online, so that you know exactly what information you will need.

19. I don't have a scanner. Can I send photographs to someone in the united states to scan them, save them, and mail them back to me so I can use them in my entry?

Yes, as long as the photograph meets the requirements in the instructions and is electronically submitted with, and at the same time as, the E-DV online entry. You must already have the scanned photograph file when you submit the entry online; it cannot be submitted separately from the online application. The entire entry (photograph and application together) can be submitted electronically from the United States or from overseas.

20. According to the procedures, the system will reject my E-DV entry form if my photos don't meet the specifications. Can I resubmit my entry?

Yes, as long as you complete your submission by 12:00 p.m. (noon) Eastern Standard Time (EST) (GMT-5) on Wednesday, November 22, 2017. If your photo(s) did not meet the specifications, the E-DV Web site will not accept your entry, so you will not receive a confirmation notice. However, given the unpredictable nature of the Internet, you may not receive the rejection notice immediately. If you can correct the photo(s) and re-send the Form Part One or Two within 60 minutes, you may be able to successfully submit the entry. Otherwise, you will have to restart the entire entry process. You can try to submit an application as many times as is necessary until a complete application is submitted and you receive the confirmation notice. Once you receive a confirmation notice, your entry is complete and you should NOT submit any additional entries.

21. How soon after I submit my entry will I receive the electronic confirmation notice?

You should receive the confirmation notice immediately, including a confirmation number that you must record and keep. However, the unpredictable nature of the Internet can result in delays. You can hit the “Submit” button as many times as is necessary until a complete application is submitted and you receive the confirmation notice. However, once you receive a confirmation notice, do not resubmit your information.

22. I hit the “submit” button, but did not receive a confirmation number. If I submit another entry, will I be disqualified?

If you did not receive a confirmation number, your entry was not recorded. You must submit another entry. It will not be counted as a duplicate. Once you receive a confirmation number, do not resubmit your information.

Selection

23. How do I know if I am selected?

You must use your confirmation number to access the Entrant Status Check available on the E-DV Web site at dvlottery.state.gov starting May 15, 2018 through September 30, 2019. Entrant Status Check is the sole means by which the Department of State will notify you if you are selected, provided further instructions on your visa application, and notify you of your immigrant visa interview appointment date and time. The only authorized Department of State Web site for official online entry in the Diversity Visa Program and Entrant Status Check is dvlottery.state.gov.

The Department of State will NOT contact you to tell you that you have been selected (see FAQ #24).

24. How will I know if I am not selected? will I be notified?

You may check the status of your DV-2019 entry through the Entrant Status Check on the E-DV Web site at dvlottery.state.gov starting May 15, 2018, until September 30, 2019. Keep your confirmation number until at least September 30, 2019. (Status information for the previous year's DV program, DV-2018, is available online from May 2, 2017, through September 30, 2018.) If your entry is not selected, you will not receive any additional instructions.

25. What if I lose my confirmation number?

You must have your confirmation number to access Entrant Status Check. A tool is now available in Entrant Status Check (ESC) on the eDV Web site that will allow you to retrieve your confirmation number via the email address with which you registered by entering certain personal information to confirm your identity.

U.S. embassies and consulates and the Kentucky Consular Center are unable to check your selection status for you or provide your confirmation number to you directly (other than through the ESC retrieval tool). The Department of State is NOT able to provide a list of those selected to continue the visa process.

26. Will I receive information from the Department of State by email or by postal mail?

The Department of State will not send you a notification letter. The U.S. government has never sent emails to notify individuals that they have been selected, and there are no plans to use email for this purpose for the DV-2019 program. If you are a selectee, you will only receive email communications regarding your visa appointment after you have responded to the notification instructions on Entrant Status Check. These emails will not contain information on the actual appointment date and time; they will simply tell you that appointment details are available, and you must then access Entrant Status Check for details. The Department of State may send emails reminding DV lottery applicants to check the ESC for their status. However, such emails will never indicate whether the lottery applicant was or was not selected.

Only Internet sites that end with the “.gov” domain suffix are official U.S. government Web sites. Many other Web sites (e.g., with the suffixes “.com,” “.org,” or “.net”) provide immigration and visa-related information and services. The Department of State does not endorse, recommend, or sponsor any information or material on these other Web sites.

You may receive emails from websites that try to trick you into sending money or providing your personal information. You may be asked to pay for forms and information about immigration procedures, all which are available for free on the Department of State Web site or through U.S. embassy or consulate Web sites. Additionally, organizations or Web sites may try to steal your money by charging fees for DV-related services. If you send money to one of these organizations, you will likely never see it again. Also, do not send personal information to these Web sites, as it may be used for identity fraud/theft.

These deceptive emails may come from people pretending to be affiliated with the Kentucky Consular Center or the Department of State. Remember, the U.S. government has never sent emails to notify individuals that they have been selected, and will not use email to notify selectees for the DV-2019 program. The Department of State will never ask you to send money by mail or by services such as Western Union.

27. How many individuals will be selected for DV-2019?

For DV-2019, 50,000 DV visas are available. Because it is likely that some of the first 50,000 persons who are selected will not qualify for visas or not pursue their cases to visa issuance, more than 50,000 entries will be selected to ensure that all of the available DV visas are issued. However, this also means that there will not be a sufficient number of visas for all those who are initially selected. To maximize use of all available visas, the Department of State may update Entrant Status Check to include additional selectees at any time before the program ends on September 30, 2019.

You can check the E-DV Web site's Entrant Status Check to see if you have been selected for further processing and your place on the list. Interviews for the DV-2019 program will begin in October 2018 for selectees who have submitted all pre-interview paperwork and other information as requested in the notification instructions. Selectees who provide all required information will be informed of their visa interview appointment through the E-DV Web site's Entrant Status Check four to six weeks before the scheduled interviews with U.S. consular officers at overseas posts.

Each month, visas will be issued to those applicants who are eligible for issuance during that month, visa-number availability permitting. Once all of the 50,000 DV visas have been issued, the program will end. Visa numbers could be finished before September 2019. Selected applicants who wish to apply for visas must be prepared to act promptly on their cases. Being randomly chosen as a selectee does not guarantee that you will receive a visa. Selection merely means that you are eligible to apply for a Diversity Visa, and if your rank number becomes eligible for final processing, you potentially may be issued a Diversity Visa. Only 50,000 visas will be issued to such applicants.

28. How will successful entrants be selected?

Official notifications of selection will be made through Entrant Status Check, available starting May 15, 2018, through at least September 30, 2019, on the E-DV Web site dvlottery.state.gov. The Department of State does not send selectee notifications or letters by regular postal mail or by email. Any email notification or mailed letter stating that you have been selected to receive a DV does not come from the Department of State and is not legitimate. Any email communication you receive from the Department of State will direct you to review Entrant Status Check for new information about your application. The Department of State will never ask you to send money by mail or by services such as Western Union.

All entries received from each region are individually numbered, and at the end of the entry period, a computer will randomly select entries from among all the entries received for each geographic region. Within each region, the first entry randomly selected will be the first case registered; the second entry selected will be the second case registered, etc. All entries received within each region during the entry period will have an equal chance of being selected. When an entry has been selected, the entrant will receive notification of his or her selection through the Entrant Status Check available starting May 15, 2018, on the E-DV Web site dvlottery.state.gov. If you are selected and you respond to the instructions provided online via Entrant Status Check, the Department of State's Kentucky Consular Center (KCC) will process your case until you are instructed to appear for a visa interview at a U.S. embassy or consulate or, if you are in the United States, until you apply to adjust status with USCIS in the United States.

29. I am already in the united states. If selected, may I adjust my status with USCIS?

Yes, provided you are otherwise eligible to adjust status under the terms of Section 245 of the Immigration and Nationality Act (INA), you may apply to USCIS for adjustment of status to permanent resident. You must ensure that USCIS can complete action on your case, including processing of any overseas spouse or children under 21 years of age, before September 30, 2019, since on that date your eligibility for the DV-2019 program expires. The Department of State will not approve any visa numbers or adjustments of status for the DV-2019 program after midnight EDT on September 30, 2019, under any circumstances.

30. If I am selected, for how long am I entitled to apply for a diversity visa?

If you are selected in the DV-2019 program, you are entitled to apply for visa issuance only during U.S. government fiscal year 2019, which is from October 1, 2018, through September 30, 2019. We encourage selectees to apply for visas as early as possible, once their lottery rank numbers become eligible for further processing.

Without exception, all selected and eligible applicants must obtain their visa or adjust status by the end of the fiscal year. There is no carry-over of DV benefits into the next year for persons who are selected but who do not obtain visas by September 30, 2019 (the end of the fiscal year). Also, spouses and children who derive status from a DV-2019 registration can only obtain visas in the DV category between October 1, 2018 and September 30, 2019. Applicants who apply overseas will receive an appointment notification from the Department through Entrant Status Check on the E-DV Web site four to six weeks before the scheduled appointment.

31. If a DV selectee dies, what happens to the case?

If a DV selectee dies at any point before he or she has traveled to the United States or adjusted status, the DV case is automatically terminated. Any derivative spouse and/or children of the deceased selectee will no longer be entitled to a DV visa. Any visas that were issued to them will be revoked.

Fees

32. How much does it cost to enter the E-DV program?

There is no fee charged for submitting an electronic entry. However, if you are selected and apply for a Diversity Visa, you must pay all required visa application fees at the time of visa application and interview directly to the consular cashier at the U.S. embassy or consulate. If you are a selectee already in the United States and you apply to USCIS to adjust status, you will pay all required application fees directly to USCIS. If you are selected, you will receive details of required DV and immigrant visa application fees with the instructions provided through the E-DV Web site at dvlottery.state.gov.

33. How and where do I pay DV and immigrant visa fees if I am selected?

If you are a randomly selected entrant, you will receive instructions for the DV visa application process through Entrant Status Check at dvlottery.state.gov. You will pay all DV and immigrant visa application fees in person only at the U.S. embassy or consulate at the time of the visa application. The consular cashier will immediately give you a U.S. government receipt for payment. Do not send money for DV fees to anyone through the mail, Western Union, or any other delivery service if you are applying for an immigrant visa at a U.S. embassy or consulate.

If you are selected and you are already present in the United States and plan to file for adjustment of status with USCIS, the instructions page accessible through Entrant Status Check at dvlottery.state.gov contains separate instructions on how to mail adjustment of status application fees to a U.S. bank.

34. If I apply for a DV, but don't qualify to receive one, can I get a refund of the visa fees I paid?

No. Visa application fees cannot be refunded. You must meet all qualifications for the visa as detailed in these instructions. If a consular officer determines you do not meet requirements for the visa, or you are otherwise ineligible for the DV under U.S. law, the officer cannot issue a visa and you will forfeit all fees paid.

Ineligibilities

35. As a DV applicant, can I receive a waiver of any grounds of visa ineligibility? Does my waiver application receive any special processing?

DV applicants are subject to all grounds of ineligibility for immigrant visas specified in the Immigration and Nationality Act (INA). There are no special provisions for the waiver of any ground of visa ineligibility aside from those ordinarily provided in the INA, nor is there special processing for waiver requests. Some general waiver provisions for people with close relatives who are U.S. citizens or Lawful Permanent Resident aliens may be available to DV applicants in some cases, but the time constraints in the DV program may make it difficult for applicants to benefit from such provisions.

DV Fraud Warning and Scams

36. How can I report internet fraud or unsolicited email?

Please visit the econsumer.gov Web site, hosted by the Federal Trade Commission in cooperation with consumer-protection agencies from 17 nations. You may also report fraud to the Federal Bureau of Investigation (FBI) Internet Crime Complaint Center. To file a complaint about unsolicited email, visit the Department of Justice “Contact Us” page.

DV Statistics

37. How many visas will be issued in DV-2019?

By law, a maximum of 55,000 visas are available each year to eligible persons. However, in November 1997, the U.S. Congress passed the Nicaraguan Adjustment and Central American Relief Act (NACARA), which stipulates that beginning as early as DV-1999, and for as long as necessary, up to 5,000 of the 55,000 annually-allocated DVs will be made available for use under the NACARA program. The actual reduction of the limit began with DV-2000 and will remain in effect through the DV-2019 program, so 50,000 visas remain for the DV program described in these instructions.

38. If I receive a visa through the DV program, will the U.S. government pay for my airfare to the united states, help me find housing and employment, and/or provide healthcare or any subsidies until I am fully settled?

No. The U.S. government will not provide any of these services to you if you receive a visa through the DV program. If you are selected to apply for a DV, you will need to demonstrate that you will not become a public charge in the United States before being issued a visa. This evidence may be in the form of a combination of your personal assets, an Affidavit of Support (Form I-134) submitted by a relative or friend residing in the United States, an offer of employment from an employer in the United States, or other evidence.

List of Countries/Areas by Region Whose Natives Are Eligible for DV-2019

The list below shows the countries whose natives are eligible for DV-2019, grouped by geographic region. Dependent areas overseas are included within the region of the governing country. USCIS identified the countries whose natives are not eligible for the DV-2019 program according to the formula in Section 203(c) of the INA. The countries whose natives are not eligible for the DV program (because they are the principal source countries of Family-Sponsored and Employment-Based immigration or “high-admission” countries) are noted after the respective regional lists.

Africa

Algeria

Angola

Benin

Botswana

Burkina Faso

Burundi

Cameroon

Cabo Verde

Central African Republic

Chad

Comoros

Congo

Congo, Democratic Republic of the

Cote D'Ivoire (Ivory Coast)

Djibouti

Egypt *

Equatorial Guinea

Eritrea

Ethiopia

Gabon

Gambia, The

Ghana

Guinea

Guinea-Bissau

Kenya

Lesotho

Liberia

Libya

Madagascar

Malawi

Mali

Mauritania

Mauritius

Morocco

Mozambique

Namibia

Niger

Rwanda

Sao Tome and Principe

Senegal

Seychelles

Sierra Leone

Somalia

South Africa

South Sudan

Sudan

Swaziland

Tanzania

Togo

Tunisia

Uganda

Zambia

Zimbabwe

* Persons born in the areas administered prior to June 1967 by Israel, Jordan, Syria, and Egypt are chargeable, respectively, to Israel, Jordan, Syria, and Egypt. Persons born in the Gaza Strip are chargeable to Egypt; persons born in the West Bank are chargeable to Jordan; persons born in the Golan Heights are chargeable to Syria.

In Africa, natives of Nigeria are not eligible for this year's diversity program.

Asia

Afghanistan

Bahrain

Bhutan

Brunei

Burma

Cambodia

Hong Kong Special Administrative Region **

Indonesia

Iran

Iraq

Israel *

Japan

Jordan *

Kuwait

Laos

Lebanon

Malaysia

Maldives

Mongolia

Nepal

North Korea

Oman

Qatar

Saudi Arabia

Singapore

Sri Lanka

Syria *

Taiwan **

Thailand

Timor-Leste

United Arab Emirates

Yemen

* Persons born in the areas administered prior to June 1967 by Israel, Jordan, Syria, and Egypt are chargeable, respectively, to Israel, Jordan, Syria, and Egypt. Persons born in the Gaza Strip are chargeable to Egypt; persons born in the West Bank are chargeable to Jordan; persons born in the Golan Heights are chargeable to Syria.

** For the purposes of the diversity program only, persons born in Macau S.A.R. derive eligibility from Portugal.

Natives of the following Asia Region countries are not eligible for this year's diversity program: Bangladesh, China (mainland-born), India, Pakistan, South Korea, Philippines, and Vietnam.

Hong Kong S.A.R. (Asia region), Macau S.A.R. (Europe region, chargeable to Portugal), and Taiwan (Asia region) do qualify and are listed here.

Europe

Albania

Andorra

Armenia

Austria

Azerbaijan

Belarus

Belgium

Bosnia and Herzegovina

Bulgaria

Croatia

Cyprus

Czech Republic

Denmark (including components and dependent areas overseas)

Estonia

Finland

France (including components and areas overseas)

Georgia

Germany

Greece

Hungary

Iceland

Ireland

Italy

Kazakhstan

Kosovo

Kyrgyzstan

Latvia

Liechtenstein

Lithuania

Luxembourg

Macau Special Administrative Region **

Macedonia

Malta

Moldova

Monaco

Montenegro

Netherlands (including components and dependent areas overseas)

Northern Ireland **

Norway (including components and dependent areas overseas)

Poland

Portugal (including components and dependent areas overseas)

Romania

Russia

San Marino

Serbia

Slovakia

Slovenia

Spain

Sweden

Switzerland

Tajikistan

Turkey

Turkmenistan

Ukraine

Uzbekistan

Vatican City

** Macau S.A.R. does qualify and is listed above. For the purposes of the diversity program only, persons born in Macau S.A.R. derive eligibility from Portugal.

Natives of the following European countries are not eligible for this year's DV program: Great Britain (United Kingdom). Great Britain (United Kingdom) includes the following dependent areas: Anguilla, Bermuda, British Virgin Islands, British Indian Ocean Territory, Cayman Islands, Falkland Islands, Gibraltar, Montserrat, Pitcairn, South Georgia and the South Sandwich Islands, St. Helena, and Turks and Caicos Islands. Note that for purposes of the diversity program only, Northern Ireland is treated separately; Northern Ireland does qualify and is listed among the qualifying areas.

North America

The Bahamas

In North America, natives of Canada and Mexico are not eligible for this year's diversity program.

Oceania

Australia (including components and dependent areas overseas)

Fiji

Kiribati

Marshall Islands

Micronesia, Federated States of

Nauru

New Zealand (including components and dependent areas overseas)

Palau

Papua New Guinea

Samoa

Solomon Islands

Tonga

Tuvalu

Vanuatu

South America, Central America, and the Caribbean

Antigua and Barbuda

Argentina

Barbados

Belize

Bolivia

Chile

Costa Rica

Cuba

Dominica

Ecuador

Grenada

Guatemala

Guyana

Honduras

Nicaragua

Panama

Paraguay

Saint Kitts and Nevis

Saint Lucia

Saint Vincent and the Grenadines

Suriname

Trinidad and Tobago

Uruguay

Venezuela

Countries in this region whose natives are not eligible for this year's diversity program: Brazil, Colombia, Dominican Republic, El Salvador, Haiti, Jamaica, Mexico, and Peru.

Carl C. Risch,
Assistant Secretary, Bureau of Consular Affairs, Department of State.

[FR Doc. 2017-22638 Filed 10-17-17; 8:45 am]

BILLING CODE 4710-06-P